DEPARTMENT OF AGRICULTURE

Agricultural Marketing Service

7 CFR Parts 1005, 1006 and 1007

[Doc. No. AMS-DA-07-0059; AO-388-A22, AO-356-A43 and AO-366-A51; DA-07-03]

Milk in the Appalachian, Florida, and Southeast Marketing Areas; Order Amending the Orders

Correction

In rule document 2014-10037, appearing on pages 24999 through 25002 in the issue of Friday, May 2, 2014, make the following correction:

On page 24999, in the third column, in the DATES section, “May 5, 2013” should read “May 5, 2014”.

[FR Doc. C1-2014-10037 Filed 5-8-14; 8:45 am]

BILLING CODE 1505-01-D